ENVIRONMENTAL PROTECTION AGENCY

40 CFR Part 721

[EPA-HQ-OPPT-2006-0795; FRL-8102-3]

RIN 2070-AJ31

2,3,5,6-Tetrachloro-2,5-Cyclohexadiene-1,4-Dione; Proposed Significant New Use of a Chemical Substance; Reopening of Comment Period

AGENCY: Environmental Protection Agency (EPA).

ACTION: Proposed rule; reopening of comment period.

SUMMARY: EPA is reopening the public comment period for a proposed significant new use rule (SNUR) published in the Federal Register of May 12, 1993 (58 FR 27980) for the chemical chloranil (2,3,5,6-tetrachloro-2,5-cyclohexadiene-1,4-dione). EPA is planning to complete this rulemaking by issuing a final rule. Given the long period of time which has passed since EPA issued the proposed rule, EPA is reopening the comment period. This will provide an opportunity for commenters to update their comments and for additional commenters to contribute to the docket before EPA develops a final rule.

DATES: Comments must be received on or before January 17, 2007.

ADDRESSES: Submit your comments, identified by docket identification (ID) number EPA-HQ-OPPT-2006-0795, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID number EPA-HQ-OPPT-2006-0795. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2006-0795. EPA's policy is that all comments received will be included in the public docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, e.g., CBI or other information whose disclosure is restricted by statute. Certain other material, such as copyrighted material, will be publicly available only in hard copy. Publicly available docket materials are available electronically at http://www.regulations.gov, or, if only available in hard copy, at the OPPT Docket, EPA Docket Center (EPA/DC). The EPA/DC suffered structural damage due to flooding in June 2006. Although the EPA/DC is continuing operations, there will be temporary changes to the EPA/DC during the clean-up. The EPA/DC Public Reading Room, which was temporarily closed due to flooding, has been relocated in the EPA Headquarters Library, Infoterra Room (Room Number 3334) in the EPA West Bldg., located at 1301 Constitution Ave., NW., Washington, DC. The EPA/DC Public Reading Room is open from 8:30 a.m. to 4:30 p.m., Monday through Friday, excluding legal holidays. The telephone number of the EPA/DC Public Reading Room is (202) 566-1744, and the telephone number for the OPPT Docket is (202) 566-0280. EPA visitors are required to show photographic identification and sign the EPA visitor log. Visitors to the EPA/DC Public Reading Room will be provided with an EPA/DC badge that must be visible at all times while in the EPA Building and returned to the guard upon departure. In addition, security personnel will escort visitors to and from the new EPA/DC Public Reading Room location. Up-to-date information about the EPA/DC is on the EPA website at http://www.epa.gov/epahome/dockets.htm.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Dwain Winters, National Program Chemicals Division (7404T), Office of Pollution Prevention and Toxics, Environmental Protection Agency, 1200 Pennsylvania Ave., NW., Washington, DC 20460-0001; telephone number: (202) 566-1977; e-mail address: winters.dwain@epa.gov.

SUPPLEMENTARY INFORMATION:

I. General Information

A. What Action is the Agency Taking?

With this document, EPA is reopening the comment period for a proposed SNUR that would require persons to notify EPA at least 90 days before commencing the manufacture, import, or processing, for any use, of chloranil containing certain chlorinated dibenzo-p-dioxins (CDDs) and chlorinated dibenzofurans (CDFs) in total combined amounts greater than 20 parts per billion (ppb). The chloranil CDD/CDF concentration would be calculated based on their toxicity equivalence (TEQ) to 2,3,7,8-tetrachlorodibenzo-p dioxin (2,3,7,8-TCDD). EPA originally published the proposed chloranil SNUR in the Federal Register of May 12, 1993 (58 FR 27980).

The 90-day notice required by the SNUR would provide EPA with the opportunity to evaluate the intended new use and associated activities, and an opportunity to protect against unreasonable risks, if any, from CDD/ CDF exposure that could result from use of chloranil with higher CDD/CDF levels. Certain recordkeeping and certification requirements would also apply to manufacturers, importers, and processors of all chloranil, no matter what the level of CDD/CDF contamination. EPA indicated that it would not promulgate a final rule until after receiving data required under the dioxin furan test rule (40 CFR part 766). Reporting under the dioxin furan test rule has been completed and no chloranil dioxin levels reported were below 20 ppb TEQ.

B. What is the Agency's Authority for Taking this Action?

Section 5(a)(2) of Toxic Substances Control Act (TSCA) (15 U.S.C. 2604(a)(2)) authorizes EPA to determine that a use of a chemical substance is a “significant new use.” EPA must make this determination by rule after considering all relevant factors, including those listed in TSCA section 5(a)(2). Once EPA determines that a use of a chemical substance is a significant new use, TSCA section 5(a)(1)(B) requires persons to submit a Significant New Use Notice (SNUN) to EPA at least 90 days before they manufacture, import, or process the chemical substance for that use (15 U.S.C. 2604(a)(1)(B)). The mechanism for reporting under this requirement is established under 40 CFR part 721, subpart A.

List of Subjects in 40 CFR Part 721

Environmental protection, Chemicals, Hazardous substances, Reporting and recordkeeping requirements.

Dated: December 12, 2006.
Wendy Cleland Hamnett,
Acting Director, Office of Pollution Prevention and Toxics.

[FR Doc. E6-21495 Filed 12-15-06; 8:45 am]

BILLING CODE 6560-50-S